DEPARTMENT OF COMMERCE

National Oceanic and Atmospheric Administration

RIN 0648-XE50

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Ad Hoc Recreational Red Snapper Advisory Panel (AP).

DATES: The meeting will convene at 1 p.m. on Wednesday, January 9, 2008 and conclude no later than 3 p.m. on Thursday, January 10, 2008.

ADDRESSES: This meeting will be held at the Quorum Hotel, 700 N. Westshore Blvd., Tampa, FL 33609; telephone: (813) 289-8200.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: At this meeting, the AP will consider developing goals and objectives for management of the recreational red snapper fishery, will continue to evaluate and recommend innovative management strategies for the private and for-hire recreational red snapper fisheries of the Gulf of Mexico, and will continue to evaluate and recommend innovative approaches to minimizing bycatch and bycatch mortality in the private and for-hire recreational red snapper fisheries of the Gulf of Mexico. The AP will focus on specific issues within recreational red snapper fishery management including data collection, education and enforcement, artificial reefs and marine reserves, bycatch reduction, and limited access privilege programs such as individual fishing quotas (IFQ) and angling management organizations (AMO).

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling (813) 348-1630.

Special Accommodations

This meeting is physically accessible to people with disabilities. Requests for sign language interpretation or other auxiliary aids should be directed to Tina Trezza at the Council (see ADDRESSES) at least 5 working days prior to the meeting.

Dated: December 18, 2007.
Tracey L. Thompson,
Acting Director, Office of Sustainable Fisheries, National Marine Fisheries Service.

[FR Doc. E7-24819 Filed 12-20-07; 8:45 am]

BILLING CODE 3510-22-S